SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before September 26, 2023.

ADDRESSES: Send all comments to Dawn Saddler, IT Program Manager, Office of Entrepreneurial Development, Small Business Administration at email address nexus@sba.gov.

FOR FURTHER INFORMATION CONTACT: Dawn Saddler, Dawn.Saddler@sba.gov (562) 400-1473 or Curtis B. Rich, Agency Clearance Officer curtis.rich@sba.gov 202-205-7030.

SUPPLEMENTARY INFORMATION: The recipients of SBA counseling and training grant awards are required by the terms of their Notice of Award and as outlined in each Program Announcement, to collect the information on SBA Form 641 (Counseling Information Form) from each small business or prospective small business that receives one-on-one counseling or advising, and to collect the information on SBA Form 888 (Management Training Report) for each group training session. SBA's Resource Partners submit this information to SBA via the Nexus system. The information is pertinent to management's analysis of each OED program or activity funded by SBA and assists SBA in evaluating the impact of each program or activity. The information is also used to support SBA's budget requests, performance plans, evaluations and other submissions made to the Office of Management and Budget, the President and the Congress.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Control Number: 3245-0324.

(1) Title: U.S. Small Business Administration Counseling Information Form/U.S. Small Business Administration Management Training Report.

Description of Respondents: To aid, counsel, assist, and protect the interests of small business concerns to preserve free competitive enterprise.

Form Number: 641 and 888.

Total Estimated Annual Responses: 1,633,000.

Total Estimated Annual Hour Burden: 253,833.

Curtis B. Rich,
Agency Clearance Officer.

[FR Doc. 2023-16013 Filed 7-27-23; 8:45 am]

BILLING CODE 8026-09-P